DEPARTMENT OF COMMERCE

National Oceanic and Atmospheric Administration

50 CFR Part 622

[Docket No. 130403320-4891-02]

RTID 0648-XC842

Fisheries of the Caribbean, Gulf of Mexico, and South Atlantic; Snapper-Grouper Fishery of the South Atlantic; 2023-2024 Recreational Fishing Season for Black Sea Bass

AGENCY: National Marine Fisheries Service (NMFS), National Oceanic and Atmospheric Administration (NOAA), Commerce.

ACTION: Temporary rule; recreational season length.

SUMMARY: NMFS announces that the recreational fishing season for black sea bass in the exclusive economic zone (EEZ) of the South Atlantic will extend throughout the species' 2023-2024 fishing year. Announcing the length of recreational season for black sea bass is one of the accountability measures (AMs) for the recreational sector. This announcement allows recreational fishers to maximize their opportunity to harvest the recreational annual catch limit (ACL) for black sea bass while NMFS manages harvest to protect the black sea bass resource.

DATES: This rule is effective from April 1, 2023, through March 31, 2024, unless changed by subsequent notification in the Federal Register.

FOR FURTHER INFORMATION CONTACT: Nikhil Mehta, NMFS Southeast Regional Office, telephone: 727-824-5305, email: nikhil.mehta@noaa.gov.

SUPPLEMENTARY INFORMATION: The South Atlantic snapper-grouper fishery includes black sea bass south of 35°15.19′ N latitude, due east of Cape Hatteras Light, North Carolina, and is managed under the Fishery Management Plan for the Snapper-Grouper Fishery of the South Atlantic Region (FMP). The South Atlantic Fishery Management Council prepared the FMP and NMFS implements the FMP under the authority of the Magnuson-Stevens Fishery Conservation and Management Act (Magnuson-Stevens Act) by regulations at 50 CFR part 622.

The recreational fishing year for black sea bass is April 1 through March 31. The recreational AM for black sea bass requires that before the April 1 start date of each recreational fishing year, NMFS projects the length of the recreational fishing season based on when NMFS projects the recreational ACL will be met, and announces the recreational season end date in the Federal Register (50 CFR 622.193(e)(2)). The purpose of this AM is to allow recreational fishers to maximize their opportunity to harvest the recreational ACL through a more predictable recreational season while NMFS manages harvest within the recreational ACL to protect the stock from experiencing adverse biological consequences.

The recreational ACL for black sea bass during the 2023-2024 fishing year is 310,602 lb (140,887 kg) in gutted weight, or 366,510 lb (166,246 kg) in round weight (50 CFR 622.193(e)(2)).

NMFS estimates that recreational landings for the 2023-2024 fishing year will be less than the 2023-2024 recreational ACL. To make this determination, NMFS compared recreational landings of black sea bass in the last 3 fishing years with available data (2019-20 through 2021-22) to the recreational ACL for the 2023-2024 fishing year. Recreational landings in each of these past 3 fishing years have been less than the 2023-2024 recreational ACL; and NMFS expects similar landings for the 2023-2024 fishing season. Therefore, because NMFS projects that the recreational landings of black sea bass will be less than the 2023-2024 recreational ACL, NMFS does not expect to close the recreational sector during the fishing year and announces the season end date for recreational fishing for black sea bass in the South Atlantic EEZ south of 35°15.19′ N latitude is March 31, 2024.

Classification

NMFS issues this action pursuant to section 305(d) of the Magnuson-Stevens Act. This action is required by 50 CFR 622.193(e)(2), which were issued pursuant to section 304(b), and is exempt from review under Executive Order 12866.

Pursuant to 5 U.S.C. 553(b)(B), there is good cause to waive prior notice and an opportunity for public comment on this action, as notice and comment is unnecessary. Such procedures are unnecessary because the rule establishing the AM has already been subject to notice and comment and all that remains is to notify the public of the recreational season length.

For the reasons already stated, the Assistant Administrator for NMFS also finds good cause to waive the 30-day delay in the effectiveness of this action under 5 U.S.C. 553(d)(3).

Authority: 16 U.S.C. 1801 et seq.

Dated: March 24, 2023.
Jennifer M. Wallace,
Acting Director, Office of Sustainable Fisheries, National Marine Fisheries Service.

[FR Doc. 2023-06517 Filed 3-28-23; 8:45 am]

BILLING CODE 3510-22-P